CONSUMER PRODUCT SAFETY COMMISSION

[CPSC Docket No. 01-C0003]

Tensor Corporation, Provisional Acceptance of a Settlement Agreement and Order

AGENCY: Consumer Product Safety Commission.

ACTION: Notice.

SUMMARY: It is the policy of the Commission to publish settlements which it provisionally accepts under the Consumer Product Safety Act in the Federal Register in accordance with the terms of 16 CFR § 1118.20. Published below is a provisionally-accepted Settlement Agreement with Tensor Corporation, continuing a civil penalty of $125,000.

DATES: Any interested person may ask the Commission not to accept this agreement or otherwise comment on its contents by filing a written request with the Office of the Secretary by February 1, 2001.

ADDRESSES: Persons wishing to comment on this Settlement Agreement should send written comments to the Comment 01-C0003, Office of the Secretary, Consumer Product Safety Commission, Washington, D.C. 20207.

FOR FURTHER INFORMATION CONTACT: William J. Moore, Jr., Trial Attorney, Office of Compliance and Enforcement, Consumer Product Safety Commission, Washington, D.C. 20207; telephone (301) 504-0626, 1348.

SUPPLEMENTARY INFORMATION: The text of the Agreement and Order appears below.

Dated: January 10, 2001.
Sadye E. Dunn,
Secretary.

Settlement Agreement and Order

1. This Settlement Agreement, made by and between the staff (“the staff”) of the U.S. Consumer Product Safety Commission (the “Commission”) and Tensor Corporation (“Tensor”), a corporation, in accordance with 16 CFR 1118.20 of the Commission's Procedures for Investigations, Inspections, and Inquiries under the Consumer Product Safety Act (“CPSA”), is a settlement of the staff allegations set forth below.

The Parties

2. The Commission is an independent federal regulatory agency responsible for the enforcement of the Consumer Product Safety Act, 15 U.S.C. 2051-2084.

3. Tensor is a corporation organized and existing under the laws of the Commonwealth of Massachusetts. Its principal office is located at 100 Everett Avenue, Chelsea, Massachusetts.

Staff Allegations

4. Section 15(b) of the CPSA, 15 U.S.C. 2064(b), requires a manufacturer of a consumer product distributed in commerce who obtains information which reasonably supports the conclusion that such product contains a defect which could create a substantial product hazard, or creates an unreasonable risk of serious injury or death, to immediately inform the Commission of the defect or risk.

5. Between May 1993 and December 1996, Tensor manufactured and sold throughout the United States approximately 600,000 “Halogen Floor Lamps, models LT609A, LT609N, and LT609P,” equipped with 500 watt halogen light bulbs (hereinafter “halogen lamps”).

6. A halogen lamp is a “consumer product” and Tensor is a “manufacturer” of a “consumer product”, which is “distributed in commerce” as those terms are defined in Sections 3 (a)(1),(4), (11) and (12) of the CPSA, 15 U.S.C. 2052 (a)(1),(4), (11) and (12).

7. The halogen lamps are defective because the 500 watt halogen bulbs contained therein can spontaneously explode during normal use, creating a risk of fire, serious injury and death.

8. Between late 1993 and December 1996, Tensor received approximately 330 incidents of exploding halogen bulbs, some causing extensive property damage and personal injuries.

9. Not until June 1996, after receiving a letter from the staff requesting information about bulb explosion incidents, did Tensor provide any information about the exploding halogen lamp bulbs. The information initially provided by Tensor was very limited however.

10. Tensor's acts and omissions constitute a violation of its duty under Section 15(b) of the CPSA, 15 U.S.C. 2064(b), to report information that its lamps contained defects which could create a substantial product hazard and that said lamps created an unreasonable risk of serious injury or death. Tensor thereby committed a prohibited act under Section 19(a)(4) of the CPSA, 15 U.S.C. 2068(a)(4).

11. The staff alleges this violation, this prohibited act, was committed “knowingly” as that term is defined in Section 20 (d) of the CPSC, 15 U.S.C. 2069 (d), and Tensor is subject to civil penalties under Section 19 of the CPSA, 15 U.S.C. 2068.

Allegations of Tensor

12. Tensor denies all the staff allegations numbered four through eleven above. It denies that the halogen lamps contained a defect that created a substantial product hazard or an unreasonable risk of serious injury or death pursuant to Section 15 of the CPSA, 15 U.S.C. 2064.

13. Tensor further denies that it violated the reporting requirements of Section 15(b) of the CPSA, 15 U.S.C. 2064(b), or that it committed a prohibited act, knowingly or otherwise, as defined in Sections 19(a)(4) and 20(d) of the CPSA, 15 U.S.C. 2068(a)(4) and 2069(d). Tensor alleges, among other things, that it had no duty to report the halogen lamps but that it did report information in a timely and appropriate manner.

Agreement of the Parties

14. The Commission has jurisdiction over this matter and over Tensor under the CPSA, 15 U.S.C. 2051 et seq.

15. This Settlement Agreement and Order is in resolution of all staff's allegations concerning Tensor's failure to report any incidents or defects associated with exploding or shattering halogen bulbs through March 27, 2000, the date on which the staff examined documents at Tensor's headquarters. This Settlement Agreement and Order does not constitute an admission by Tensor that the law has been violated.

16. Tensor agrees to pay a civil penalty in the amount of one hundred twenty-five thousand and no/dollars ($125,000.00), payable to the “U.S. Treasury” and delivered to the attention of William J. Moore, Jr. as follows: if hand delivered, to Office of Compliance, Legal Division, 4330 East West Highway, Bethesda, MD 20814; if by U.S. Mail, to CPSC, Washington, DC 20207. Tensor shall pay sixty-two thousand five hundred dollars ($62,500.00) within 10 calendar days of receiving service of the final Settlement Agreement and Order, and sixty-two thousand five hundred dollars ($62,500.00) to be paid no later than one year from the date on which this Settlement Agreement and Order became final. If Tensor fails to make a full payment on schedule, the unpaid balance of the entire civil penalty shall be due and payable immediately and interest on the unpaid balance shall accrue and be paid at the federal legal rate of interest under the provisions of 28 U.S.C. 1961 (a) and (b), from the date the payment was due under the terms of this Settlement Agreement and Order.

17. Tensor knowingly, voluntarily and completely waives any rights it may have in the above captioned case (1) to the issuance of a Complaint in this matter; (2) to an administrative or judicial hearing with respect to the staff allegations cited herein; (3) to judicial review or other challenge or contest of the validity of the Settlement Agreement or the Commission's Order; (4) to a determination by the Commission as to whether a violation of Section 15(b) of the CPSA, 15 U.S.C. 2064(b), has occurred, and (5) to a statement of findings of fact and conclusions of law with regard to the staff allegations.

18. Upon provisional acceptance of this Settlement Agreement and Order by the Commission, this Settlement Agreement and Order shall be placed on the public record and shall be published in the Federal Register in accordance with 16 CFR 1118.20. If the Commission does not receive any meritorious written request not to accept the Settlement Agreement and Order within 15 days, the Settlement Agreement and Order shall be deemed finally accepted on the 16th day after the date it is published in the Federal Register, in accordance with 16 CFR 1118.20(f).

19. The Settlement Agreement and Order becomes effective upon its final acceptance by the Commission.

20. The Commission may publicize the terms of the Settlement Agreement and Order.

21. Tensor agrees to the entry of the attached Order, which is incorporated herein by reference, and agrees to be bound by its terms.

22. The Commission's Order in this matter is issued under the provisions of the CPSA, 15 U.S.C. 2051 et seq. and a violation of this Order may subject Tensor to appropriate legal action.

23. This Settlement Agreement and Order is binding upon Tensor, its parent and each of its assigns or successors.

24. Agreements, understandings, representations, or interpretations made outside this Settlement Agreement and Order may not be used to vary or to contradict its terms.

25. If, after the effective date hereof, any provision of this Settlement Agreement and Order is held to be illegal, invalid, or unenforceable under present or future laws effective during the terms of the Settlement Agreement and Order, such provision shall be fully severable. The rest of the Settlement Agreement and Order shall remain in full effect, unless the Commission and Tensor determine that severing the provision materially impacts the purpose of the Settlement Agreement and Order.

26. This Settlement Agreement and Order shall not be waived, changed, amended, modified, or otherwise altered, except in writing executed by the party against whom such amendment, modification, alteration, or waiver is sought to be enforced and approved by the Commission.

27. This Settlement Agreement may be used in interpreting the Order. Agreements, understandings, representations, or interpretations made outside of this Settlement Agreement and Order may not be used to vary or contradict its terms.

Dated: September 22, 2000.

Tensor Corporation.

Roger Sherman,

President.

The U.S. Consumer Product Safety Commission.

Alan H. Schoem,

Assistant Executive Director, Office of Compliance.

Eric L. Stone,

Director, Legal Division, Office of Compliance.

Dated: September 19, 2000.

William J. Moore, Jr.,

Trial Attorney.

Belinda V. Mitchell,

Trial Attorney, Legal Division, Office of Compliance.

Order

Under consideration of the Settlement Agreement entered into between Tensor Corporation, a corporation, and the staff of the U.S. Consumer Product Safety Commission; and the Commission having jurisdiction over the subject matter and Tensor Corporation, and it appearing that the Settlement Agreement and Order is in the public interest, it is

Ordered, that the Settlement Agreement be, and hereby is, accepted, and it is

Further Ordered, That Tensor Corporation, shall pay the Commission a civil penalty in the amount of One Hundred Twenty-Five Thousand and 00/100 dollars, ($125,000.00) payable to the U.S. Treasury as follows: delivered to the Commission, sixty-two thousand five hundred dollars ($62,500.00) within 10 calendar days of the service of the Final Order upon Tensor Corporation and sixty-two thousand five hundred dollars ($62,500.00) to be paid one year from the date on which this Settlement Agreement and Order became final.

Upon failing to make a payment or upon making a payment that is at least five days late, the outstanding balance of the civil penalty shall become due and payable by Tensor Corporation, and the interest on the outstanding balance shall accrue and be paid at the federal legal rate under the provisions of 27 U.S.C. sections 1961 (a) and (b).

In the Matter of Tensor Corporation

[CPSC DOCKET NO. 01-C0003]

Provisionally accepted and Provisional Order issued on the 10th day of January, 2001.

By Order of the Commission.

Sadye E. Dunn,
Secretary, U.S. Consumer Product Safety Commission.

[FR Doc. 01-1252 Filed 1-16-01; 8:45 am]

BILLING CODE 6355-01-M